ENVIRONMENTAL PROTECTION AGENCY

[EPA-HQ-OPP-2011-0507; FRL-8888-2]

Formetanate HCl and Acephate; Cancellation Order for Amendments To Terminate; Product Uses

AGENCY: Environmental Protection Agency (EPA).

ACTION: Notice.

SUMMARY: This notice announces EPA's order for the amendments to terminate uses, voluntarily requested by the registrants and accepted by the Agency, of products containing formetanate HCl and acephate, pursuant to section 6(f)(1) of the Federal Insecticide, Fungicide, and Rodenticide Act (FIFRA), as amended. This cancellation order follows a July 13, 2011 Federal Register Notice of Receipt of Requests from the registrants listed in Table 2 of Unit II. to voluntarily amend their formetanate HCl and acephate product registrations to delete uses. These are not the last products containing these pesticides registered for use in the United States. In the July 13, 2011 notice, EPA indicated that it would issue an order implementing the amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested amendments to terminate uses of formetanate HCl and acephate product registrations. Any distribution, sale, or use of the products subject to this cancellation order is permitted only in accordance with the terms of this order, including any existing stocks provisions.

DATES: The amendments are effective September 14, 2011.

FOR FURTHER INFORMATION CONTACT: Formetanate HCL: James Parker, Pesticide Re-evaluation Division (7508P), Office of Pesticide Programs, Environmental Protection Agency, 1200 Pennsylvania Ave., NW., Washington, DC 20460-0001; telephone number: (301) 306-0469; fax number: (703) 308-7070; e-mail address: parker.james@epa.gov .

Acephate: Kelly Ballard, Pesticide Re-evaluation Division (7508P), Office of Pesticide Programs, Environmental Protection Agency, 1200 Pennsylvania Ave., NW., Washington, DC 20460-0001; telephone number: (703) 305-8126; fax number: (703) 308-7070; e-mail address: ballard.kelly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0507. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the Agency taking?

This notice announces the amendments to delete uses, as requested by registrants, of products registered under section 3 of FIFRA. These registrations are listed in sequence by registration number in Table 1 of this unit.

Table 1—Formetanate HCL & Acephate Product Registration Amendments To Delete Uses
EPA registration No. | Product name | Uses deleted
10163-264 | Formetanate Hydrochloride Technical | Apple, Peach & Pear.
10163-265 | Carzol SP Miticide/Insecticide in Water Soluble Packaging | Apple, Peach & Pear.
WA010033 | Carzol SP Insecticide in Water Soluble Packaging | Apple & Pear.
5481-8975 | Orthene Technical | Succulent Green Beans.
70506-1 | Acephate 75 Insecticide | Succulent Green Beans.
70506-2 | Acephate 90 Insecticide | Succulent Green Beans.
70506-3 | Acephate Technical | Succulent Green Beans.
70506-8 | Acephate 97UP Insecticide | Succulent Green Beans.
70506-71 | Acephate 90SP Manufacturing Use Product | Succulent Green Beans.
70506-76 | Acephate 90DF Insecticide | Succulent Green Beans.
81964-1 | Acephate Technical | Succulent Green Beans.
81964-3 | Acephate 90% SP | Succulent Green Beans.
83558-35 | Acephate Technical | Succulent Green Beans.
84229-7 | Tide Acephate 90 WDG | Succulent Green Beans.

Table 2 of this unit includes the names and addresses of record for all registrants of the products in Table 1 of this unit, in sequence by EPA company number. This number corresponds to the first part of the EPA registration numbers of the products listed in this unit.

Table 2—Registrants of Amended Products
EPA company No. | Company name and address
5481 | Amvac Chemical Corporation, 4695 MacArthur Ct., Suite 1250, Newport Beach, CA 92660.
10163 | Gowan Company, P.O. Box 5569, Yuma, AZ 85366-5569.
70506 | United Phosphorus, Inc., 630 Freedom Business Center, Suite 402, King of Prussia, PA 19406.
81964 | ChemStarr, LLC, 21 Hubble, Irvine, CA 92618.
83558 | Makhteshim Agan of North America, Inc., 4515 Falls of Neuse Rd, Suite 300, Raleigh, NC 27609.
84229 | Tide International, USA, Inc., 21 Hubble, Irvine, CA 92618.

III. Summary of Public Comments Received and Agency Response to Comments

During the public comment period provided, EPA received no comments in response to the July 13, 2011 Federal Register notice (76 FR 41250) (FRL-8879-7) announcing the Agency's receipt of the requests for voluntary amendments to delete uses of products listed in Table 1 of Unit II.

IV. Cancellation Order

Pursuant to FIFRA section 6(f), EPA hereby approves the requested amendments to terminate uses of formetanate HCl and acephate registrations identified in Table 1 of Unit II. Accordingly, the Agency hereby orders that the product registrations identified in Table 1 of Unit II. are amended to terminate the affected uses. The effective date of the cancellations that are subject of this notice is September 14, 2011. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on July 13, 2011. The comment period closed on August 15, 2011.

VI. Provisions for Disposition of Existing Stocks

Existing stocks are those stocks of registered pesticide products which are currently in the United States and which were packaged, labeled, and released for shipment prior to the effective date of the action. The existing stocks provision for the products subject to this order is as follows.

Since the EPA has approved product labels reflecting the requested amendments to delete uses, formetanate HCl registrants will now be permitted to sell and distribute existing stocks of products under the previously approved labeling until November 30, 2011. Thereafter, registrants will be prohibited from selling or distributing the products whose labels include the deleted uses identified in Table 1 of Unit II., except for export consistent with FIFRA section 17 or for proper disposal. Persons other than the registrant may sell, distribute, or use existing stocks of products (including those of (24c) Special Local Needs registrations) whose labels include the deleted uses until December 31, 2013, provided that such sale, distribution, or use is consistent with the terms of the previously approved labeling on, or that accompanied, the deleted uses.

Now that EPA has approved product labels reflecting the requested amendments to delete uses, acephate registrants are permitted to sell or distribute products listed in Table 1 of Unit II. under the previously approved labeling until March 14, 2013, unless other restrictions have been imposed. Thereafter, registrants will be prohibited from selling or distributing the products whose labels include the deleted uses identified in Table 1 of Unit II., except for export consistent with FIFRA section 17 or for proper disposal.

List of Subjects

Environmental protection, Pesticides and pests.

Dated: September 7, 2011.
Richard P. Keigwin, Jr.,
Director, Pesticide Re-evaluation Division, Office of Pesticide Programs.

[FR Doc. 2011-23338 Filed 9-13-11; 8:45 am]

BILLING CODE 6560-50-P